DEPARTMENT OF VETERANS AFFAIRS

Notice of Establishment; VHA Resident Education Committee

As required by section 9(a)(2) of the Federal Advisory Committee Act, the Department of Veterans Affairs hereby gives notice of the establishment of the Advisory Committee on Veterans Health Administration (VHA) Resident Education. The Secretary of Veterans Affairs had determined that establishing the Committee is both necessary and in the public interest.

The Committee will provide advice on matters involving a broad assessment of physician resident positions in relationship to the future health care needs of veterans. The Committee will be composed of public and private health care experts who will provide a national perspective on health care trends and independent advice to VA on critical physician education issues. Members of the Committee will provide a broad range of experience and expertise, ranging from medical school administration to medical education accreditation.

As it considers necessary, the Committee may make recommendations to the Secretary and the Under Secretary for Health regarding the philosophical principles of VHA's resident education program, as well as the overall operation of that program.

Dated: July 14, 2004.
By Direction of the Secretary.
E. Philip Riggin,
Committee Management Officer.

[FR Doc. 04-17060 Filed 7-26-04; 8:45 am]

BILLING CODE 8320-01-M